DEPARTMENT OF HOUSING AND URBAN DEVELOPMENT

[Docket No. FR-5893-N-01]

Notice of Deadlines for Installers' Licenses Under the HUD Manufactured Housing Installation Program

AGENCY: Office of the Assistant Secretary for Housing—Federal Housing Commissioner, (HUD).

ACTION: Notice.

SUMMARY: The National Manufactured Housing Construction and Safety Standards Act of 1974, as amended, is intended to protect the quality, safety, durability, and affordability of manufactured homes. In order to accomplish those objectives, the Act requires HUD to establish and implement manufactured home installation programs for States that choose not to operate their own installation programs. Among other things, HUD's installation program for these States includes the training and licensing of manufactured home installers. HUD has recently begun providing the training that would qualify individuals to apply to obtain a manufactured home installation license. As a result, this notice advises that installers wishing to install manufactured homes in States where HUD administers their installation program that they will be required to apply for and obtain a HUD Installer's License.

FOR FURTHER INFORMATION CONTACT: Pamela Beck Danner, Administrator, Office of Manufactured Housing Programs, Department of Housing and Urban Development, 451 Seventh Street SW., Room 9166, Washington, DC 20410, telephone 202-708-6423 (this is not a toll-free number). Persons who have difficulty hearing or speaking may access this number via TTY by calling the toll-free Federal Information Relay Service at 800-877-8339.

SUPPLEMENTARY INFORMATION:

I. Background

The National Manufactured Housing Construction and Safety Standards Act of 1974 (42 U.S.C. 5401-5426) (the Act) is intended, among other things, to protect the quality, safety, durability, and affordability of manufactured homes. The Act was amended on December 27, 2000 (Manufactured Housing Improvement Act of 2000, Title VI, Pub. L. 106-659, 114 Stat. 2997) to require that HUD establish and implement a Federal manufactured home installation program that includes installation standards, the training and licensing of manufactured home installers, and the inspection of the installation of manufactured homes.

On October 19, 2007 (72 FR 59338), HUD began implementing these requirements with the publication of its Model Manufactured Home Installation Standards final rule. The Model Installation Standards, which are codified at 24 CFR part 3285, establish the minimum requirements for the initial installation of new manufactured homes. Under these standards, States that choose to operate an installation program for manufactured homes must implement installation standards that provide protection to its residents that equals or exceeds the protections provided by part 3285.

The Model Manufactured Home Installation Standards are, however, one component of HUD's efforts to implement the Act. The second component, HUD's Manufactured Housing Installation Program, establishes requirements for training and licensing manufactured home installers. HUD published its Manufactured Housing Installation Program regulations, codified at 24 CFR part 3286, on June 20, 2008 (73 FR 35292). Together parts 3285 and 3286 establish requirements that implement Section 605 (42 U.S.C. 5404). Under Section 605, HUD is required to implement an installation program to enforce the Installation Standards in States that do not have installation programs approved by HUD.

II. Installer Licensing in HUD-Administered States

HUD's Manufactured Home Installation program is designed to apply minimum standards to the installation of new manufactured homes and ensure that qualified persons install the homes properly. Manufactured homes that are properly installed provide safe and durable quality housing that can also be highly affordable, since proper installation can mean fewer repairs and longer home-lives. Recognizing that the quality of the installation work on a manufactured home depends primarily on the installer, the training and licensure of individual installers is a central feature of HUD's Manufactured Home Installation program. Any individual or entity that engages in the business of directing, supervising, or controlling initial installations of new manufactured homes in a state without a qualifying installation program must have, or must employ someone who has, a valid manufactured home installation license, pursuant to § 3286.203.

Under § 3286.205, an individual must meet at least one of the following minimum experience requirements in order to obtain an installation license to perform manufactured home installations under the HUD-administered installation program:

(i) 1,800 hours of experience installing manufactured homes;

(ii) 3,600 hours of experience in the construction of manufactured homes;

(iii) 3,600 hours of experience as a building construction supervisor;

(iv) 1,800 hours as an active manufactured home installation inspector;

(v) Completion of one year of a college program in a construction-related field; or

(vi) Any combination of experience or education as described in paragraphs (i) through (v) that totals 3,600 hours.

In addition, initial applicants for an installation license must complete 12 hours of training, at least 4 hours of which must consist of training on the federal installation standards and HUD's installation program regulations. In order to qualify for renewal of an installation license, the licensed installer must complete 8 hours of continuing education during the 3-year license period, including in any particular subject area that may be required by HUD to be covered in order to assure adequate understanding of installation requirements. This training, however, must be conducted by HUD approved trainers.

HUD was, for various reasons, unable to make the training available to implement these requirements after publishing its Manufactured Housing Installation Program regulations. Beginning in Fiscal Year 2015, however, HUD has taken a number steps to ensure that individuals wishing to obtain a manufactured home installation license had access to the training required to obtain a license. Specifically, HUD awarded a contract to SEBA Professional Services (SEBA) in September 2014, to assist in administering the installation program. Since this time, HUD and SEBA developed procedures for implementing the installation program in the 13 states that do not have a HUD approved installation program, established a Web site for information dissemination, and prepared sets of test questions for the installer training program. Since June, 2015, HUD and SEBA have conducted pilot installation programs in Maryland and Nebraska to determine and develop program procedures. HUD has approved in-person and online training programs for installers to meet the required 12 hours of training and has approved 3 installation training programs. In July, 2015, HUD and SEBA, using an approved training program and trainer, conducted an in-person 12 hour training for installers and inspectors in Maryland. HUD has also approved an online training program which is currently available, and is working with approved installation program providers to plan regularly scheduled in-person training programs for individuals wishing to take the training required to obtain a HUD Installer License. Additional conference calls will be conducted with specific groups and individuals as needed.

Finally, to disseminate information regarding HUD's implementation of the installation program, SEBA provided program overviews at the April 2015, State Administrative Agency and Third Party Inspection Agency training conference and at the August 2015, meeting of the Manufactured Housing Consensus Committee. The Manufactured Housing Educational Institute (MHEI) is also developing an on-line training course for home inspectors. HUD will hold a retailer webinar on October 20, 2015, to assist retailers in understanding their responsibilities under the program. SEBA has posted all pertinent information associated with installer licensing requirements and other related information on their Web site at www.manufacturedhousinginstallation.com.

As a result, HUD is now able to implement the licensure requirements as provided by § 3286.203. As described below, HUD is implementing these requirements on a rolling basis based on the date on which HUD implemented the State's installation program.

III. Deadlines for Obtaining Installer's License

HUD conducted an initial conference call on July 14, 2015, with Maryland State officials, code officials, installer and retailers to introduce the program and outline the requirements and schedule for full implementation of the program. Participants were advised during the call, that any installers wanting to continue to install manufactured homes in Maryland must obtain a HUD Installer's License by November 1, 2015. This is the date when full compliance with the requirements of HUD's installation program will be implemented in Maryland. Similarly, HUD conducted a conference call with Nebraska State and local officials, installers and retailers in Nebraska on September 1, 2015. Installers wanting to continue to install manufactured homes in Nebraska must obtain a HUD Installer's License by December 1, 2015, when full compliance with the requirements of HUD's installation program will be required.

HUD plans to conduct conference calls or meetings to introduce its installation programs in Connecticut, Massachusetts, New Jersey, Rhode Island, and Vermont, on December 1, 2015. Again, installers wishing to continue to install manufactured homes in these states, must obtain a HUD Installer's License by May 1, 2016, when full compliance with HUD's installation program will be required.

HUD also plans to conduct conference calls or meetings to introduce its installation programs in Alaska, Hawaii, Illinois, Montana, South Dakota, and Wyoming, on January 1, 2016. All installers wanting to continue to install manufactured homes in Alaska, Hawaii, Illinois, Montana, South Dakota, and Wyoming must obtain a HUD Installer's License by June 1, 2016, when full compliance with HUD's installation program will be required.

More information on obtaining a HUD Installer's License may be obtained online at http://manufacturedhousinginstallation.com/, or by writing to the Office of Manufactured Housing Installation Programs, C/O SEBA Professional Services, LLC, 1325 G Street NW., Suite 500, Washington DC 20005, or via email at Hudinfo@sebapro.com.

IV. Paperwork Reduction Act

The information collection requirements contained in this rule have been submitted to the Office of Management and Budget (OMB) under the Paperwork Reduction Act of 1995 (44 U.S.C. 3501-3520), and assigned OMB control number 2502-0578. In accordance with the Paperwork Reduction Act, an agency may not conduct or sponsor, and a person is not required to respond to, a collection of information, unless the collection displays a currently valid OMB control number.

V. Environmental Impact

This notice provides operation instructions and procedures for training and licensing manufactured homes installers as required by 24 CFR part 3286, which was previously subject to an environmental review. Accordingly, under 24 CFR 50.19(c)(4), this notice is categorically excluded from environmental review under the National Environmental Policy Act of 1969 (42 U.S.C. 4321).

Dated: October 8, 2015.
Edward L. Golding,
Principal Deputy Assistant Secretary for Housing.

[FR Doc. 2015-26143 Filed 10-13-15; 8:45 am]

BILLING CODE 4210-67-P